DEPARTMENT OF THE INTERIOR

Bureau of Ocean Energy Management

[MMAA104000]

Gulf of Mexico, Outer Continental Shelf (OCS), Central Planning Area (CPA) Oil and Gas Lease Sale 231

AGENCY: Bureau of Ocean Energy Management (BOEM), Interior.

ACTION: Notice of Availability (NOA) of a Record of Decision (ROD) for CPA Lease Sale 231 in the Gulf of Mexico OCS Oil and Gas Lease Sales: 2013-2014; Western Planning Area Lease Sale 233, and Central Planning Area Lease Sale 231; Final Supplemental Environmental Impact Statement (WPA 233/CPA 231 Supplemental EIS).

Authority: This NOA is published pursuant to the regulations (40 CFR part 1506) implementing the provisions of the National Environmental Policy Act (NEPA) of 1969, as amended (42 U.S.C. 4321 et seq.).

SUMMARY: BOEM has prepared a ROD for oil and gas CPA Lease Sale 231 scheduled for March 19, 2014. CPA Lease Sale 231 is the second CPA lease sale scheduled in the Outer Continental Shelf Oil & Gas Leasing Program for 2012-2017 (Five-Year Program). The proposed lease sale is in the Gulf of Mexico's CPA off the States of Louisiana, Alabama, and Mississippi. In making its decision, BOEM considered alternatives to the proposed action and the potential impacts as presented in the WPA 233/CPA 231 Supplemental EIS and all comments received throughout the NEPA process. The WPA 233/CPA 231 Supplemental EIS updated the baseline conditions and potential environmental effects of oil and natural gas leasing, exploration, development, and production in the WPA and CPA since publication of the Gulf of Mexico OCS Oil and Gas Lease Sales: 2012-2017; Western Planning Area Lease Sales 229, 233, 238, 246, and 248; Central Planning Area Lease Sales 227, 231, 235, 241, and 247, Final Environmental Impact Statement (2012-2017 WPA/CPA Multisale EIS) (USDOI, BOEM, 2012b). The WPA 233/CPA 231 Supplemental EIS analyzed the potential impacts of the proposed action in the CPA and was completed in April 2013.

SUPPLEMENTARY INFORMATION: In the WPA 233/CPA 231 Supplemental EIS, BOEM evaluated three alternatives for CPA Lease Sale 231, which are summarized below:

Alternative A—The Proposed Action: This is BOEM's preferred alternative. This alternative would offer for lease all unleased blocks within the CPA for oil and gas operations, except whole and partial blocks deferred by the Gulf of Mexico Energy Security Act of 2006.

The proposed CPA lease sale area encompasses about 63 million acres of the total CPA area of 66.45 million acres. As of December 2013, approximately 40 million acres of the proposed CPA lease sale area are currently unleased. The estimated amount of resources projected to be developed as a result of proposed CPA Lease Sale 231 is 0.460-0.894 billion barrels of oil (BBO) and 1.939-3.903 trillion cubic feet (Tcf) of gas.

Alternative B—The Proposed Action Excluding the Unleased Blocks Near Biologically Sensitive Topographic Features: This alternative would offer for lease all unleased blocks within the proposed CPA lease sale area, as described for the proposed action (Alternative A), with the exception of any unleased blocks subject to the Topographic Features Stipulation.

Alternative C—No Action: This alternative is the cancellation of proposed CPA Lease Sale 231 and is identified as the environmentally preferred alternative.

After careful consideration, BOEM has selected a subset of the proposed action, (a portion of the lease sale area analyzed in Alternative A) in the WPA 233/CPA 231 Supplemental EIS. As noted in its Record of Decision, BOEM has decided to hold CPA Lease Sale 231 and offer for lease all unleased blocks in the CPA, except: (1) whole and partial of blocks deferred by the Gulf of Mexico Energy Security Act of 2006; (2) blocks that are adjacent or beyond the United States Exclusive Economic Zone in the area known as the northern portion of the Eastern Gap; and (3) whole and partial blocks that lie within the 1.4 nautical mile buffer zone north of the Continental Shelf Boundary between the United States and Mexico. BOEM's selection of a subset of the preferred alternative reflects an orderly resource development with protection of the human, marine, and coastal environments, while also ensuring that the public receives an equitable return for these resources and that free-market competition is maintained.

Record of Decision Availability: To obtain a single printed or CD-ROM copy of the ROD for proposed CPA Lease Sale 231, you may contact the BOEM, Gulf of Mexico OCS Region, Public Information Office (GM 335A), 1201 Elmwood Park Boulevard, New Orleans, Louisiana 70123-2394 (1-800-200-GULF). An electronic copy of the ROD is available on BOEM's Internet Web site at http://boem.gov/Environmental-Stewardship/Environmental-Assessment/NEPA/nepaprocess.aspx.

FOR FURTHER INFORMATION CONTACT: For more information on the ROD, you may contact Mr. Gary D. Goeke, Bureau of Ocean Energy Management, Gulf of Mexico OCS Region, 1201 Elmwood Park Boulevard (GM 623E), New Orleans, Louisiana 70123-2394. You may also contact Mr. Goeke by telephone at (504) 736-3233.

Dated: February 13, 2014.
Tommy P. Beaudreau,
Director, Bureau of Ocean Energy Management.

[FR Doc. 2014-04187 Filed 2-25-14; 8:45 am]

BILLING CODE 4310-MR-P